DEPARTMENT OF TRANSPORTATION

Federal Aviation Administration

14 CFR Part 39

[Docket No. FAA-2012-1076; Directorate Identifier 2011-NM-274-AD; Amendment 39-17556; AD 2013-16-18]

RIN 2120-AA64

Airworthiness Directives; Airbus Airplanes

AGENCY: Federal Aviation Administration (FAA), Department of Transportation (DOT).

ACTION: Final rule.

SUMMARY: We are adopting a new airworthiness directive (AD) for certain Airbus Model A320-214, -232 and -233 airplanes; and Model A321-211, -213, and -231 airplanes. This AD was prompted by a report of a missing fastener between certain stringers of the fuselage frame that connects the frame to a tee. This AD requires an inspection for a missing fastener, and a rototest inspection and a modification or repair of the fuselage frame at the affected area if necessary. We are issuing this AD to detect and correct cracking in the fuselage that could result in reduced structural integrity of the airplane.

DATES: This AD becomes effective September 27, 2013.

The Director of the Federal Register approved the incorporation by reference of a certain publication listed in this AD as of September 27, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

We issued a notice of proposed rulemaking (NPRM) to amend 14 CFR part 39 to include an AD that would apply to the specified products. The NPRM was published in the Federal Register on October 16, 2012 (77 FR 63270). The NPRM proposed to correct an unsafe condition for the specified products. The European Aviation Safety Agency (EASA), which is the aviation authority for the Member States of the European Community, has issued EASA Airworthiness Directive 2011-0229, dated December 6, 2011 (referred to after this as “the MCAI”), to correct an unsafe condition for the specified products. The MCAI states:

During a quality check in production of an A320 family aeroplane, it was discovered that a fastener was missing at [frame] FR 24 between stringer (STRG) 25 and STRG 26 on the right-hand (RH) side. The purpose of the missing fastener, a 4 [millimeter] mm diameter aluminum rivet, Part Number (P/N) ASNA2050DXJ040, is to connect the FR 24 to the FR 24 Tee. The hole where the fastener was missing was not drilled.

Further investigations revealed that the drilling was missing on the milling grid used for frame assembly of a limited group of aeroplanes.

This condition, if not corrected, could impair the structural integrity of the affected aeroplanes.

For the reasons described above, this [EASA] AD requires a special detailed inspection (SDI) [rototest inspection for cracking] of the affected area, and the accomplishment of the associated corrective actions [modification and/or repair].

You may obtain further information by examining the MCAI in the AD docket.

Comments

We gave the public the opportunity to participate in developing this AD. We considered the comment received.

Request To Include Latest Revision of Service Information

Airbus requested that we revise the NPRM (77 FR 63270, October 16, 2012) to reflect the latest revision of the service information to add an inspection for a missing fastener that is included in that revised service information. Airbus stated that the rototest inspection is required only when it is confirmed that the fastener is missing.

We agree with the commenter's request. Airbus has issued Airbus Mandatory Service Bulletin A320-53-1247, Revision 01, dated October 15, 2012. That service bulletin was revised to include procedures for a general visual inspection for a missing fastener. For airplanes on which no fastener is missing, the rototest inspection would no longer be necessary. We have changed paragraph (g) of this final rule to provide instructions for accomplishing the general visual inspection, which if accomplished and no fastener is missing, would eliminate the need for the rototest inspection. We have included the repair and modification that were part of paragraph (g) of the NPRM (77 FR 63270, October 16, 2012) as new paragraph (h) of this final rule and changed subsequent identifiers accordingly.

Conclusion

We reviewed the available data, including the comment received, and determined that air safety and the public interest require adopting this AD with the changes described previously—and minor editorial changes. We have determined that these changes:

• Are consistent with the intent that was proposed in the NPRM (77 FR 63270, October 16, 2012) for correcting the unsafe condition; and

• Do not add any additional burden upon the public than was already proposed in the NPRM (77 FR 63270, October 16, 2012).

Costs of Compliance

We estimate that this AD will affect 111 products of U.S. registry. We also estimate that it will take about 6 work-hours per product to comply with the basic requirements of this AD. The average labor rate is $85 per work-hour. Required parts will cost about $85 per product. Where the service information lists required parts costs that are covered under warranty, we have assumed that there will be no charge for these parts. As we do not control warranty coverage for affected parties, some parties may incur costs higher than estimated here. Based on these figures, we estimate the cost of this AD to the U.S. operators to be $66,045, or $595 per product.

We have received no definitive data that would enable us to provide cost estimates for the on-condition actions specified in this AD. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-16-18 Airbus: Amendment 39-17556. Docket No. FAA-2012-1076; Directorate Identifier 2011-NM-274-AD.

(a) Effective Date

This airworthiness directive (AD) becomes effective September 27, 2013.

(b) Affected ADs

None.

(c) Applicability

This AD applies to Airbus Model A320-214, -232, and -233 airplanes; and Model A321-211, -213, and -231 airplanes; certificated in any category; manufacturer serial numbers 4338, 4371, 4374, 4375, 4377, 4381 through 4384 inclusive, 4386, 4387, 4388, 4390 through 4402 inclusive, 4404 through 4409 inclusive, 4411 through 4417 inclusive, 4419, 4420, 4421, 4423, 4424, 4426, 4429 through 4436 inclusive, 4438 through 4443 inclusive, 4445 through 4450 inclusive, 4453, 4454, 4456 through 4469 inclusive, 4471, 4472, 4474 through 4481 inclusive, 4483 through 4498 inclusive, 4500, 4504, 4505, 4506, and 4509.

(d) Subject

Air Transport Association (ATA) of America Code 53, Fuselage.

(e) Reason

This AD was prompted by a report of a missing fastener between certain stringers of the fuselage frame that connects the frame to a tee. We are issuing this AD to detect and correct cracking in the fuselage that could result in reduced structural integrity of the airplane.

(f) Compliance

You are responsible for having the actions required by this AD performed within the compliance times specified, unless the actions have already been done.

(g) Inspections

Before the accumulation of 24,000 total flight cycles since first flight of the airplane, or within 30 days after the effective date of this AD, whichever occurs later, do the actions specified in paragraph (g)(1) or (g)(2) of this AD.

(1) Do a general visual inspection for a missing fastener between the two fasteners at fuselage frame (FR) 24 between stringer 25 and stringer 26 right-hand side, in accordance with the Accomplishment Instructions of Airbus Mandatory Service Bulletin A320-53-1247, Revision 01, dated October 15, 2012.

(i) If the fastener is not missing, no further action is required by paragraph (g) of this AD.

(ii) If the fastener is missing, before further flight, do the actions required by paragraph (g)(2) of this AD.

(2) Do a rototest inspection for cracking of the two adjacent fastener holes at

fuselage FR 24 between stringer 25 and stringer 26 right-hand side, in accordance with the Accomplishment Instructions of Airbus Service Bulletin A320-53-1247, dated July 15, 2011; or Airbus Mandatory Service Bulletin A320-53-1247, Revision 01, dated October 15, 2012.

(h) Repair

(1) If, during the rototest inspection specified by paragraph (g)(2) of this AD, any crack is found, before further flight, repair using a method approved by the Manager, International Branch, ANM-116, Transport Airplane Directorate, FAA; or the European Aviation Safety Agency (EASA) (or its delegated agent).

(2) If, during the rototest inspection specified by paragraph (g)(2) of this AD, no crack is found, before the accumulation of 24,000 total flight cycles since first flight of the airplane, or within 30 days after the effective date of this AD, whichever occurs later: Modify fuselage FR 24 between stringer 25 and stringer 26 right-hand side, in accordance with the Accomplishment Instructions of Airbus Service Bulletin A320-53-1247, dated July 15, 2011; or Airbus Mandatory Service Bulletin A320-53-1247, Revision 01, dated October 15, 2012.

(i) Other FAA AD Provisions

The following provisions also apply to this AD:

(1) Alternative Methods of Compliance (AMOCs): The Manager, International Branch, ANM-116, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to mandatory continuing airworthiness information (MCAI) EASA Airworthiness Directive 2011-0229, dated December 6, 2011, for related information. The MCAI may be viewed on the Internet at http://ad.easa.europa.eu/ad/2011-0229. EASA ADs are at http://ad.easa.europa.eu/.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A320-53-1247, Revision 01, dated October 15, 2012.

(ii) Airbus Service Bulletin A320-53-1247, dated July 15, 2011.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 2, 2013.
Jeffrey E. Duven,
Acting Manager, Transport Airplane Directorate, Aircraft Certification Service.

[FR Doc. 2013-19459 Filed 8-22-13; 8:45 am]

BILLING CODE 4910-13-P